DEPARTMENT OF TRANSPORTATION

Federal Aviation Administration

14 CFR Part 71

[Airspace Docket No. 99-AGL-57]

Realignment of Federal Airways; MI

AGENCY: Federal Aviation Administration (FAA), DOT.

ACTION: Final rule.

SUMMARY: This action realigns five Federal airways in the Marquette, MI, area. This action will realign the affected Federal airways from the Marquette Very High Frequency Omnidirectional Range/Distance Measuring Equipment (VOR/DME) to the Sawyer VOR/DME (previously named Gwinn in the notice). The FAA is taking this action due to the decommissioning of the Marquette VOR/DME and the commissioning of the Sawyer VOR/DME, which will be located approximately 15 nautical miles (NM) to the southeast of the present location of the Marquette VOR/DME. In addition, this action renames the current VOR/DME from the Gwinn VOR/DME to the Sawyer VOR/DME and amends the legal description of V-316 to include the Newberry VOR/DME.

EFFECTIVE DATE: 0901 UTC, August 10, 2000.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION:

Background

The location of the new facility (previously named Gwinn) is located on the Sawyer International Airport. Therefore, in accordance with standard procedures the facility is renamed Sawyer. On May 21, 2000, the FAA proposed to amend several VOR Federal airways in the vicinity of Sawyer, MI, due to the decommissioning of the Marquette VOR/DME and the commissioning of the Sawyer VOR/DME (65 FR 21682). During the flight check of V-316 it was determined the route between the Sawyer VOR/DME and the Sault Ste Marie VORTAC was unsatisfactory. As a result, the FAA altered V-316 to the south approximately 3 NM to the Newberry VOR/DME.

Interested parties were invited to participate in this rulemaking proceeding by submitting written comments on the proposal to the FAA. No comments were received. Except for editorial changes, the name change of the facility from “Gwinn” to “Sawyer” and the change to V-316 to include the Newberry VOR/DME, this amendment is the same as that proposed in the notice.

The Rule

This amendment to part 71 of the Federal Aviation Regulations (14 CFR part 71) realigns five Federal airways due to the decommissioning of the Marquette VOR/DME and the commissioning of the new Sawyer VOR/DME. Specifically, V-7, V-133, V-224, V-316, and V-341 are realigned from their former routes to the Sawyer VOR/DME. The Sawyer VOR/DME is located approximately 15 NM southeast of the former Marquette location. In addition, as a result of an unsatisfactory flight check the FAA is amending V-316 to include the Newberry VOR/DME. Additionally, in accordance with standard procedures the facility is renamed Sawyer. The FAA is taking this action to manage the navigable airspace and support navigational requirements in the vicinity of Marquette, MI.

Domestic VOR Federal airways are published in Section 6010(a) of FAA Order 7400.9G dated September 1, 1999, and effective September 16, 1999, which is incorporated by reference in 14 CFR 71.1. The Federal airways listed in this document will be published subsequently in the order.

The FAA has determined that this regulation only involves an established body of technical regulations for which frequent and routine amendments are necessary to keep them operationally current. It, therefore—(1) is not a significant regulatory action“ under Executive Order 12866; (2) is not a significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 6010(a)—Domestic VOR Federal Airways

* * * * *

V-7 [Revised]

From Dolphin, FL; INT Dolphin 299° and Lee County, FL, 120° radials; Lee County; Lakeland, FL; Cross City, FL; Seminole, FL; Wiregrass, AL; INT Wiregrass 333° and Montgomery, AL, 129° radials; Montgomery; Vulcan, AL; Muscle Shoals, AL; Graham, TN; Central City, KY; Pocket City, IN; INT Pocket City 016° and Terre Haute, IN, 191° radials; Terre Haute; Boiler, IN; Chicago Heights, IL; INT Chicago Heights 358° and Falls, WI, 170° radials; Falls; Green Bay, WI; Menominee, MI; to Sawyer, MI. The airspace below 2,000 feet MSL outside the United States is excluded. The portion outside the United States has no upper limit.

* * * * *

V-133 [Revised]

From INT Charlotte, NC, 305° and Barretts Mountain, NC, 197° radials; Barretts Mountain; Charleston, WV; Zanesville, OH; Tiverton, OH; Mansfield, OH; INT Mansfield 349° and Detroit, MI, 141° radials; Detroit; Salem, MI; INT Salem 346°and Saginaw, MI, 160° radials; Saginaw; Traverse City, MI; Escanaba, MI; Sawyer, MI; Houghton, MI; Thunder Bay, ON, Canada; International Falls, MN; to Red Lake, ON, Canada. The airspace within Canada is excluded.

* * * * *

V-224 [Revised]

From Saywer, MI; to Schoolcraft County, MI.

* * * * *

V-316 [Revised]

From Ironwood, MI; Sawyer, MI; Newberry, MI; Sault Ste Marie, MI; thence via Sault Ste Marie 091° radial to Elliot Lake, ON, Canada, NDB; thence to Sudbury, ON, Canada, via the 259° radial to Sudbury. The airspace within Canada is excluded.

* * * * *

V-341 [Revised]

From Cedar Rapids, IA; Dubuque, IA; Madison, WI; Oshkosh, WI; Green Bay, WI; Menominee, MI; Iron Mountain, MI; Sawyer, MI; to Houghton, MI.

* * * * *

Issued in Washington, DC, on June 28, 2000.

Reginald C. Matthews,
Manager, Airspace and Rules Division.

[FR Doc. 00-17063 Filed 7-5-00; 8:45 am]

BILLING CODE 4910-13-U